DEPARTMENT OF TRANSPORTATION

Federal Aviation Administration

14 CFR 71

[Docket No. FAA-2021-0994; Airspace Docket No. 21-AGL-14]

RIN 2120-AA66

Proposed Amendment of VOR Federal Airways V-7, V-341, and V-493; in the vicinity of Menominee, MI

AGENCY: Federal Aviation Administration (FAA), DOT.

ACTION: Notice of proposed rulemaking (NPRM).

SUMMARY: The FAA proposes to amend VHF Omnidirectional Range (VOR) Federal airways V-7, V-341, and V-493, in the vicinity of Menominee, MI. The airway amendments are necessary due to the planned decommissioning of the VOR portion of the Menominee, MI, VOR/Distance Measuring Equipment (DME) which these airways utilize for navigation guidance. The Menominee VOR is being decommissioned as part of the FAA's VOR Minimum Operational Network (VOR MON) program.

DATES: Comments must be received on or before January 10, 2022.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2021-0994; Airspace Docket No. 21-AGL-14 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the airway structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0994; Airspace Docket No. 21-AGL-14) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0994; Airspace Docket No. 21-AGL-14.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order JO 7400.11F, Airspace Designations and Reporting Points, dated August 10, 2021 and effective September 15, 2021. FAA Order JO 7400.11F is publicly available as listed in the ADDRESSES section of this document. FAA Order JO 7400.11F lists Class A, B, C, D, and E airspace areas, air traffic service routes, and reporting points.

Background

The FAA is planning decommissioning activities for the VOR portion of the Menominee VOR/DME with a proposed effected date of September 8, 2022. The Menominee VOR was one of the candidate VORs identified for discontinuance by the FAA's VOR MON program and listed in the Final policy statement notice, “Provision of Navigation Services for the NextGen Transition to Performance-Based Navigation (PBN) (Plan for Establishing a VOR MON),” published in the Federal Register of July 26, 2016 (81 FR 48694), Docket No. FAA-2011-1082. Although the VOR portion of the Menominee VOR/DME is planned for decommissioning, the co-located Distance Measuring Equipment (DME) of the navigational aid is being retained.

The airways affected by the Menominee VOR are V-7, V-341, and V-493. With the planned decommissioning of the Menominee VOR, the remaining ground-based navigational aid coverage in the area is insufficient to enable the continuity of these affected airways. As such, the proposal would result in airway segments being removed for V-7 and V-493, and the creation of an airway gap in V-341. To overcome the removed airway segments and the gap in the airway, instrument flight rules (IFR) traffic may use adjacent VOR Federal airways V-78, V-133, V-217, and V-271, or receive air traffic control radar vectors to navigate through or around the affected area. Additionally, IFR pilots equipped with Area Navigation capabilities may also file point to point through the affected area using fixes that will remain in place. Visual flight rules pilots, who elect to navigate through the affected area, may utilize the ATC services listed previously.

The Proposal

The FAA is proposing an amendment to 14 CFR part 71 to amend three VOR Federal airways. The proposed airway amendments are described below.

V-7: V-7 extends between the Dolphin, FL, VOR/Tactical Air Navigation (VORTAC) and the Muscle Shoals, AL, VORTAC; between the Pocket City, IN, VORTAC and the intersection of the Chicago Heights, IL, VORTAC 358° radial and the Badger, WI, VOR/DME 117° radial; and between the Green Bay, WI, VORTAC and the Sawyer, MI, VOR/DME. The airspace below 2,000 feet MSL outside the United States is excluded and the portion outside the United States has no upper limit. The FAA proposes to remove the segment of the airway that extends between the Green Bay, WI, VORTAC and Sawyer, MI, VOR/DME. Additionally, upon review of the V-7 airway, the FAA has determined that the airway lies wholly within the United States; therefore, the FAA also proposes to remove the below 2,000 MSL exclusionary language and no upper limit language for the portion outside the United States. The unaffected portions of the existing airway would remain as charted.

V-341: V-341 extends between the Cedar Rapids, IA, VOR/DME and the Houghton, MI, VOR/DME. The FAA proposes to remove the segment of the airway between the Green Bay, WI, VORTAC and the Iron Mountain, MI, VOR/DME. The resulting airway would extend between the Cedar Rapids, IA, VOR/DME and the Green Bay, WI, VORTAC; and between the Iron Mountain, MI, VOR/DME and the Houghton, MI, VOR/DME.

V-493: V-493 extends between the Livingston, TN, VOR/DME and the Appleton, OH, VORTAC; and between the Menominee, MI, VOR/DME and the Rhinelander, WI, VOR/DME. The FAA proposes to remove the segment of the airway from the Menominee, MI, VOR/DME and the Rhinelander, WI, VOR/DME. The resulting airway would extend between the Livingston, TN, VOR/DME and the Appleton, OH, VORTAC.

All of the navigational aid radials in the airway descriptions below are stated in True degrees.

Domestic VOR Federal airways are published in paragraph 6010(a) of FAA Order JO 7400.11F, dated August 10, 2021, and effective September 15, 2021, which are incorporated by reference in 14 CFR 71.1. The VOR Federal airways listed in this document would be published subsequently in FAA JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a), Domestic VOR Federal airways.

* * * * *

V-7 [Amended]

From Dolphin, FL; INT Dolphin 299° and Lee County, FL, 120° radials; Lee County; Lakeland, FL; Cross City, FL; Seminole, FL; Wiregrass, AL; INT Wiregrass 333° and Montgomery, AL, 129° radials; Montgomery; Vulcan, AL; to Muscle Shoals, AL. From Pocket City, IN; INT Pocket City 016° and Terre Haute, IN, 191° radials; Terre Haute; Boiler, IN; Chicago Heights, IL; to INT Chicago Heights 358° and Badger, WI, 117° radials.

* * * * *

V-341 [Amended]

From Cedar Rapids, IA; Dubuque, IA; Madison, WI; Oshkosh, WI; to Green Bay, WI. From Iron Mountain, MI; Sawyer, MI; to Houghton, MI.

* * * * *

V-493 [Amended]

From Livingston, TN; Lexington, KY; York, KY; INT York 030° and Appleton, OH, 183° radials; to Appleton.

* * * * *

Issued in Washington, DC.
Michael R. Beckles,
Acting Manager, Rules and Regulations Group.

[FR Doc. 2021-25608 Filed 11-24-21; 8:45 am]

BILLING CODE 4910-13-P